DEPARTMENT OF ENERGY

Federal Energy Regulatory Commission

[Docket No. IN11-2-000]

Moussa I. Kourouma d/b/a Quntum Energy LLC; Notice of Designation of Commission Staff as Non-Decisional

March 14, 2011.

With respect to an order issued by the Commission on February 14, 2011 in the above-captioned docket, staff of the Office of Enforcement (OE), are designated as non-decisional in deliberations by the Commission in this docket. Accordingly, pursuant to 18 CFR 385.2202 (2010), they will not serve as advisors to the Commission or take part in the Commission's review of any offer of settlement. Likewise, as non-decisional staff, pursuant to 18 CFR 385.2201 (2010), they are prohibited from communicating with advisory staff concerning any deliberations in this docket.

Dated: March 14, 2011.
Kimberly D. Bose,
Secretary.

[FR Doc. 2011-6488 Filed 3-18-11; 8:45 am]

BILLING CODE 6717-01-P